Title 3—

The President

Proclamation 9580 of March 24, 2017

Greek Independence Day: A National Day of Celebration of Greek and American Democracy, 2017

By the President of the United States of America

A Proclamation

This year marks the 196th anniversary of Greek independence. Greek and American democracy are forever intertwined. American patriots built our Republic on the ancient Greeks' groundbreaking idea that the people should decide their political fates.

As a young Nation, only recently free from Great Britain and securing its place on the world stage, America served as a source of inspiration for the revolutionary and freedom-loving Greeks who sought their own independence. Indeed, American citizens stood united with the people of Greece in its “glorious cause” of democracy and freedom, as expressed by Philadelphia's Franklin Gazette at the time.

The ideas and ideals of the ancient Greeks altered the course of human history, from our own American Republic to the modern Greek state and many other nations. All those who believe in the refrain “liberty and justice for all,” and who are devoted to democracy and rule of law, owe a debt of gratitude to Greece and the foundational principles that took root in the ancient city-state of Athens.

On this Greek Independence Day, we express our deep gratitude for Greece's enduring friendship in a region that has experienced great uncertainty. Greece is an important partner in our engagements throughout the international sphere. We look forward to strengthening our excellent bilateral defense relationship, and recognize the value and importance Greece's role as a strong ally in the North Atlantic Treaty Organization.

The American people join Greece in celebrating another milestone in its independent history, and we look forward to a future of shared success as partners and allies.

NOW, THEREFORE, I, DONALD J. TRUMP, President of the United States of America, by virtue of the authority vested in me by the Constitution and the laws of the United States, do hereby proclaim March 25, 2017, as Greek Independence Day: A National Day of Celebration of Greek and American Democracy. I call upon the people of the United States to observe this day with appropriate ceremonies and activities.

IN WITNESS WHEREOF, I have hereunto set my hand this twenty-fourth day of March, in the year of our Lord two thousand seventeen, and of the Independence of the United States of America the two hundred and forty-first.

[FR Doc. 2017-06357

Filed 3-28-17; 11:15 am]

Billing code 3295-F7-P